DEPARTMENT OF HEALTH AND HUMAN SERVICES

Centers for Medicare and Medicaid Services

[Document Identifier: CMS-10117-10118-10119-10135-10136]

Emergency Clearance: Public Information Collection Requirements Submitted to the Office of Management and Budget (OMB)

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments to regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an Administration Initiative. We cannot reasonably comply with the normal clearance procedures because a statutory deadline under the Medicare Modernization Act (MMA) would be missed.

Title II of the Medicare Modernization Act (MMA) modified and re-named the existing Medicare+Choice (M+C) program established under Part C of title XVIII of the Social Security Act. The program is now called the Medicare Advantage (MA) program. Although some MMA program changes are already in effect, several new features will take effect beginning with the 2006 contract year. These new features include authority for new MA regional plans to be organized as regional preferred provider organizations (RPPOs). The MMA also amended the Social Security Act to introduce a new process for determining beneficiary premiums and benefits for 2006 and future years. Under the new process MA organizations will submit a “bid” reflecting their revenue needs for covering the benefits they plan to offer.

1. Type of Information Collection Request: Revision of a currently approved collection; Title of Information Collection: Qualification—Medicare Advantage Application For Coordinated Care, Private Fee-For-Service, Regional Preferred Provider Organization, Service Area Expansion For Coordinated Care and Private Fee-For-Service Plans, Medical Savings Account Plans; Use: An entity seeking a contract as an MA organization must be able to provide Medicare's basic benefits plus meet the organizational requirements set out in regulations at 42 CFR part 422. An applicant must demonstrate that is can meet the benefit and other requirements within the specific geographic area it is requesting. The application forms are designed to provide the information needed to determine the health plan's compliance. The regulatory requirements are incorporated into the MA applications. The MA application forms will be used to determine if an entity is eligible to enter into a contract to provide services to Medicare beneficiaries; Form Number: CMS-10117, 10118, 10119, 10135, 10136 (OMB#: 0938-0935); Frequency: Reporting: One time submission; Affected Public: Business or other for-profit, Not-for-profit institutions and State, Local or Tribal Government; Number of Respondents: 65; Total Annual Responses: 90; Total Annual Hours: 2770.

CMS is requesting OMB review and approval of this collection by January 20, 2006, with a 180-day approval period. Written comments and recommendations will be considered from the public if received by the individuals designated below by December 28, 2005.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 28, 2005:

Centers for Medicare and Medicaid Services, Office of Strategic Operations and Regulatory Affairs, Room C4-26-05, 7500 Security Boulevard, Baltimore, MD 21244-1850, Fax Number: (410) 786-5267, Attn: Bonnie L. Harkless; and

OMB Human Resources and Housing Branch, Attention: Carolyn Lovett, New Executive Office Building, Room 10235, Washington, DC 20503.

Dated: February 9, 2005
Michelle Shortt,
Director, Regulations Development Group, Office of Strategic Operations and Regulatory Affairs.

[FR Doc. 05-24046 Filed 12-13-05; 8:45 am]

BILLING CODE 4120-01-M